DEPARTMENT OF TRANSPORTATION

National Highway Traffic Safety Administration

[Docket No. NHTSA-2013-0114]

National Emergency Medical Services Advisory Council (NEMSAC) and Federal Interagency Committee on Emergency Medical Services (FICEMS); Notice of Federal Advisory Committee Meeting

AGENCY: National Highway Traffic Safety Administration (NHTSA), U.S. Department of Transportation (DOT).

ACTION: Meeting Notice—National Emergency Medical Services Advisory Council and Federal Interagency Committee on Emergency Medical Services.

SUMMARY: The NHTSA announces meetings of NEMSAC and FICEMS to be held consecutively in the Metropolitan Washington, DC, area. This notice announces the date, time, and location of the meetings, which will be open to the public, as well as opportunities for public input to the NEMSAC and FICEMS. The purpose of NEMSAC, a nationally recognized council of emergency medical services representatives and consumers, is to advise and consult with DOT and the FICEMS on matters relating to emergency medical services (EMS). The purpose of FICEMS is to ensure coordination among Federal agencies supporting EMS and 9-1-1 systems.

DATES: The NEMSAC meeting will be held on December 5, 2013, from 8 a.m. to 5:00 p.m. EST, and on December 6, 2013, from 8 a.m. to 12 p.m. EST. A public comment period will take place on December 5, 2013, between 2 p.m. and 2:30 p.m. EST and December 6, 2013, between 10 a.m. and 10:15 a.m. EST. Written comments for the NEMSAC from the public must be received no later than December 2, 2013.

The FICEMS meeting will be held on December 6, 2013, from 1 p.m. to 4 p.m. EST. A public comment period will take place on December 6, 2013, between approximately 3:30 p.m. and 3:45 p.m. EST. Written comments for FICEMS from the public must be received no later than December 2, 2013.

ADDRESSES: The meetings will both be held at the Performance Institute on the third floor of 901 New York Avenue NW., Washington, DC 20001.

FOR FURTHER INFORMATION CONTACT: Drew Dawson, Director, U.S. Department of Transportation, Office of Emergency Medical Services, 1200 New Jersey Avenue SE., NTI-140, Washington, DC 20590, telephone 202-366-9966; email Drew.Dawson@dot.gov.

SUPPLEMENTARY INFORMATION: Notice of these meetings is given under the Federal Advisory Committee Act, Public Law 92-463, as amended (5 U.S.C. App.). The NEMSAC is authorized under Section 31108 of the Moving Ahead with Progress in the 21st Century Act of 2012. The FICEMS is authorized under Section 10202 of the Safe, Accountable, Flexible, Efficient Transportation Equity Act: A Legacy for Users (SAFETEA-LU).

Tentative Agenda of the National EMS Advisory Council Meeting

The tentative NEMSAC agenda includes the following:

Thursday, December 5, 2013 (8 a.m. to 5 p.m. EST)

(1) Opening Remarks

(2) Disclosure of Conflicts of Interests by Members

(3) Reports and Updates From the Departments of Transportation, Homeland Security, and Health & Human Services

(4) Presentation, Discussion and Possible Adoption of Reports and Recommendations From the following NEMSAC Workgroups:

a. Patient Protection and Affordable Care Act

b. Revision of the EMS Education Agenda for the Future

c. EMS Agenda for the Future

d. Safety

(5) Other Business of the Council

(6) Public Comment Period (2 p.m. to 2:30 p.m. EST)

(7) Workgroup Breakout Sessions (2:30 p.m. to 5 p.m. EST)

Friday, December 6, 2013 (8 a.m. to 12 p.m. EST)

(1) Unfinished Business/Continued Discussion From Previous Day

(2) Public Comment Period (10 a.m. to 10:15 a.m. EST)

(3) Next Steps and Adjourn

On Thursday, December 5, 2013, From 2:30 p.m. to 5 p.m. EST, the NEMSAC workgroups will meet in breakout sessions at the same location. These sessions are open for public attendance, but their agendas do not accommodate public comment.

Tentative Agenda of the Federal Interagency Committee on EMS Meeting

Friday, December 6, 2013 (1 p.m. to 4 p.m. EST)

(1) Welcome, Introductions, Opening Remarks

(2) Review and Approval of Executive Summary of July 8, 2013 Meeting

(3) National EMS Advisory Council (NEMSAC) Report

(4) The NIH Office of Emergency Care Research—An Overview

(5) Presentation and Discussion of the Final Draft FICEMS Strategic Plan

(6) Technical Working Group (TWG) Committee Reports

(7) Updates on Progress Responding to National Transportation Safety Board Recommendations

(8) Election of Chair and Vice-Chair for Calendar Year 2014

(9) Other FICEMS Business

(10) Public Comment Period (approximately 3:30 p.m. to 3:45 p.m. EST)

(11) Next Steps and Adjourn

Registration Information: These meetings will be open to the public; however, pre-registration is requested. Individuals wishing to attend must register online at http://tinyurl.com/NEMSAC-FICEMS-2013 no later than December 2, 2013. For assistance with registration, please contact Noah Smith at Noah.Smith@dot.gov or 202-366-5030. There will not be a teleconference option for these meetings.

Public Comment: Members of the public are encouraged to comment directly to the NEMSAC and FICEMS during designated public comment periods. In order to allow as many people as possible to speak, speakers are requested to limit their remarks to 5 minutes. Written comments from members of the public will be distributed to NEMSAC or FICEMS members at the meeting and should reach the NHTSA Office of EMS no later than December 2, 2013. Written comments may be submitted by either one of the following methods: (1) You may submit comments by email: nemsac@dot.gov or ficems@dot.gov or (2) you may submit comments by fax: (202) 366-7149.

A final agenda as well as meeting materials will be available to the public online through www.EMS.gov on or before November 29, 2013.

Issued on: November 6, 2013.
Jeffrey P. Michael,
Associate Administrator for Research and Program Development.

[FR Doc. 2013-26945 Filed 11-8-13; 8:45 am]

BILLING CODE 4910-59-P